DEPARTMENT OF COMMERCE

International Trade Administration

[A-533-824]

Polyethylene Terephthalate Film, Sheet, and Strip From India: Preliminary Results of Antidumping Duty Administrative Review and Partial Rescission of Antidumping Duty Administrative Review; 2021-2022; Correction

AGENCY: Enforcement and Compliance, International Trade Administration, Department of Commerce.

ACTION: Notice; correction.

SUMMARY: The U.S. Department of Commerce (Commerce) published a notice in the Federal Register on August 3, 2023, in which Commerce announced the preliminary results of the antidumping duty (AD) administrative review and the partial rescission of the AD administrative reviews of the AD order on polyethylene terephthalate film, sheet, and strip from India. This notice incorrectly rescinded the review for Polyplex Corporation Ltd. (Polyplex).

FOR FURTHER INFORMATION CONTACT: Jacqueline Arrowsmith, AD/CVD Operations, Office VII, U.S. Department of Commerce, 1401 Constitution Avenue NW, Washington, DC 20230; telephone: (202) 482-5255.

SUPPLEMENTARY INFORMATION:

Correction

On August 3, 2023, in the Federal Register, in FR Doc. 2023-16543, volume 88, page 52199, in the third column, we mistakenly did not assign Polyplex the 0.00 percent dumping margin that we assigned Jindal in the section titled “Company Not Selected for Individual Review,” which should be “Companies Not Selected for Individual Review.” With the publication of this notice, we will preliminarily assign both Jindal and Polyplex a dumping margin of 0.00 percent. The final dumping margins for both Jindal and Polyplex will be determined by the final results that we calculate for SRF Limited.

Partial Rescission

Commerce initiated a review of eight companies in this proceeding. We are rescinding this administrative review with respect to only five of these companies and not six as listed in the original Preliminary Results.¹ The five companies for which we are rescinding the administrative review are: (1) Ester Industries Ltd.; (2) Garware Polyester Ltd.; (3) MTZ Polyesters Ltd.; (4) Uflex Ltd.; and (5) Vacmet India, pursuant to 19 CFR351.213(d)(1), because all review requests for these companies were timely withdrawn. Accordingly, the companies that remain subject to the instant review are Jindal, Polyplex, and SRF.

¹ See Polyethylene Terephthalate Film, Sheet, and Strip from India: Preliminary Results and Partial Rescission of Antidumping Duty Administrative Review; 2021-2022, 88 FR 51298 (August 3, 2023).

Notification to Interested Parties

This notice is issued and published in accordance with sections 751(a)(1) and 777(i)(1) of the Tariff Act of 1930, as amended and 19 CFR 351.221(b)(4).

Dated: November 16, 2023.
Abdelali Elouaradia,
Deputy Assistant Secretary for Enforcement & Compliance.

[FR Doc. 2023-25931 Filed 11-22-23; 8:45 am]

BILLING CODE 3510-DS-P